DEPARTMENT OF COMMERCE

International Trade Administration

[A-570-112]

Certain Collated Steel Staples From the People's Republic of China: Postponement of Preliminary Determination in the Less-Than-Fair-Value Investigation

AGENCY: Enforcement and Compliance, International Trade Administration, Department of Commerce.

DATES: Applicable October 29, 2019.

FOR FURTHER INFORMATION CONTACT: William Horn at (202) 482-4868 or Sergio Balbontin at (202) 482-6478, AD/CVD Operations, Enforcement and Compliance, International Trade Administration, U.S. Department of Commerce, 1401 Constitution Avenue NW, Washington, DC 20230.

SUPPLEMENTARY INFORMATION:

Background

On July 3, 2019, the Department of Commerce (Commerce) initiated the less-than-fair-value (LTFV) investigation of imports of certain collated steel staples from the People's Republic of China.¹ The deadline for the preliminary determination is November 13, 2019.

¹ See Certain Collated Steel Staples from the People's Republic of China, the Republic of Korea, and Taiwan: Initiation of Less-Than-Fair-Value Investigations, 84 FR 31833 (July 3, 2019).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On October 2, 2019, the petitioner ² submitted a timely request that Commerce postpone the preliminary determination in this LTFV investigation.³ The petitioner stated that it requests postponement to provide adequate time for it and Commerce to review the respondents' questionnaire responses prior to the preliminary determination. The petitioner requests that Commerce fully extend the preliminary determination by 50 days.

² The petitioner is Kyocera Senco Industrial Tools, Inc.

³ See Petitioner's Letter, “Certain Collated Steel Staples from the People's Republic of China: Request to Postpone Preliminary Antidumping Duty Determination,” dated October 2, 2019.

For the reason stated above and because there are no compelling reasons to deny the request, Commerce, in accordance with section 733(c)(1)(A) of the Act, is postponing the deadline for the preliminary determination by 50 days (i.e., 190 days after the date on which this investigation was initiated). As a result, Commerce will issue its preliminary determination no later than January 2, 2020. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: October 23, 2019.
Jeffrey I. Kessler,
Assistant Secretary for Enforcement and Compliance.

[FR Doc. 2019-23578 Filed 10-28-19; 8:45 am]

BILLING CODE 3510-DS-P